NATIONAL FOUNDATION ON THE ARTS AND HUMANITIES

National Endowment for the Humanities

Civil Penalty Adjustments for 2021

AGENCY: National Endowment for the Humanities; National Foundation on the Arts and the Humanities.

ACTION: Notice of civil penalty adjustments for 2021.

SUMMARY: The National Endowment for the Humanities (NEH) is giving notice of the adjusted maximum and minimum civil monetary penalties that it may impose for violations of its New Restrictions on Lobbying, as required by the Federal Civil Penalties Inflation Adjustment Act Improvements Act of 2015 (the 2015 Act). The updated penalty amounts are adjusted for inflation and are effective from January 15, 2021 through January 14, 2022.

DATES: The updated civil penalties in this notice are applicable to penalties assessed on or after January 15, 2021 if the associated violations occurred after November 2, 2015.

FOR FURTHER INFORMATION CONTACT: Elizabeth Voyatzis, Deputy General Counsel, Office of the General Counsel, National Endowment for the Humanities, 400 7th Street SW, Room 4060, Washington, DC 20506; (202) 606-8322; gencounsel@neh.gov.

SUPPLEMENTARY INFORMATION:

1. Background on NEH's New Restrictions on Lobbying Regulation

On April 21, 2020, NEH published an interim final rule implementing the 2015 Act (28 U.S.C. 2461 note) and adjusting the civil penalties found in its New Restrictions on Lobbying regulation (45 CFR 1168) pursuant to the 2015 Act.¹ The interim final rule incorporated the initial “catch up” adjustment and the annual adjustment for 2020. NEH announced in its interim final rule that, for all future adjustments to penalties under its New Restrictions on Lobbying regulation required by the 2015 Act, NEH will publish a Notice in the Federal Register to notify the public of the updated penalty amounts no later than January 15 of each year.

¹ 85 FR 22025.

NEH published a final rule on June 11, 2020, adopting the interim final rule without change.²

² 85 FR 35566.

2. 2021 Adjustment to Civil Penalties Under NEH's New Restrictions on Lobbying Regulation

For 2020, the penalty range for violations under NEH's New Restrictions on Lobbying regulation was a minimum of $20,489 and a maximum of $204,892.³ Therefore, the new, post-adjustment minimum penalty for 2021 under NEH's New Restrictions on Lobbying regulation is $20,489 × 1.01182 = $20,731.18 which rounds to $20,731.

³ Table 1 details the annual adjustments to New Restrictions on Lobbying Civil Monetary Penalties for years 2016-2021.

The new, post-adjustment maximum penalty for 2021 under NEH's New Restrictions on Lobbying regulation is $204,892 × 1.01182 = $207,313.823, which rounds to $207,314. These post-adjustment penalties are less than 250 percent of the pre-adjustment penalties, so they do not implicate the post-adjustment amount limitation in the 2015 Act.

Thus, the range of penalties under NEH's New Restrictions on Lobbying regulation, for the purposes of the 2021 adjustment, is a minimum of $20,731 and a maximum of $207,314.

Table 1—Annual Adjustments to New Restrictions on Lobbying Civil Monetary Penalties, 2016-2021
Year | Baseline penalty range | Applicable multiplier based on percent increase in CPI-U | New baseline penalty range
2016 | $10,000-$100,000 | ⁴ 1.89361 | $18,936-$189,361
2017 | $18,936-$189,361 | ⁵ 1.01636 | $19,246-$192,459
2018 | $19,246-$192,459 | ⁶ 1.02041 | $19,639-$196,387
2019 | $19,639-$196,387 | ⁷ 1.02522 | $20,134-$201,340
2020 | $20,134-$201,340 | ⁸ 1.01764 | $20,489-$204,892
2021 | $20,489-$204,892 | ⁹ 1.01182 | $20,731-$207,314

⁴ OMB Memorandum M-16-06 (February 24, 2016).

⁵ OMB Memorandum M-17-11 (December 16, 2016).

⁶ OMB Memorandum M-18-03 (December 15, 2017).

⁷ OMB Memorandum M-19-04 (December 14, 2018).

⁸ OMB Memorandum M-20-05 (December 16, 2019).

⁹ OMB Memorandum M-21-10 (December 23, 2020).

Dated: January 8, 2021.
Caitlin Cater,
Attorney-Advisor, National Endowment for the Humanities.

[FR Doc. 2021-00582 Filed 1-13-21; 8:45 am]

BILLING CODE 7536-01-P